DEPARTMENT OF TRANSPORTATION

Federal Aviation Administration

14 CFR Part 39

[Docket No. FAA-2018-0903; Product Identifier 2018-NM-113-AD; Amendment 39-19616; AD 2019-07-05]

RIN 2120-AA64

Airworthiness Directives; Airbus SAS Airplanes

AGENCY: Federal Aviation Administration (FAA), Department of Transportation (DOT).

ACTION: Final rule.

SUMMARY: We are superseding Airworthiness Directive (AD) 2016-19-14, which applied to certain Airbus SAS Model A318 and A319 series airplanes; Model A320-211, -212, -214, -231, -232, and -233 airplanes; and Model A321-111, -112, -131, -211, -212, -213, -231, and -232 airplanes. AD 2016-19-14 required repetitive inspections for cracking of the 10VU rack fitting lugs, and repair of any cracking. Since we issued AD 2016-19-14, we have determined that the unsafe condition may exist on additional airplanes. This AD continues to require repetitive inspections for cracking of the 10VU rack fitting lugs, and repair of any cracking. This AD also adds airplanes to the applicability. We are issuing this AD to address the unsafe condition on these products.

DATES: This AD is effective May 24, 2019.

The Director of the Federal Register approved the incorporation by reference of certain publications listed in this AD as of May 24, 2019.

ADDRESSES: For service information identified in this final rule, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0903.

Examining the AD Docket

You may examine the AD docket on the internet at http://www.regulations.gov by searching for and locating Docket No. FAA-2018-0903; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 to supersede AD 2016-19-14, Amendment 39-18663 (81 FR 71602, October 18, 2016) (“AD 2016-19-14”). AD 2016-19-14 applied to certain Airbus SAS Model A318 and A319 series airplanes; Model A320-211, -212, -214, -231, -232, and -233 airplanes; and Model A321-111, -112, -131, -211, -212, -213, -231, and -232 airplanes. The NPRM published in the Federal Register on November 5, 2018 (83 FR 55299). Since we issued AD 2016-19-14, we have determined that the unsafe condition may exist on additional airplanes. This AD continues to require repetitive inspections for cracking of the 10VU rack fitting lugs, and repair of any cracking. This AD also adds airplanes to the applicability. We are issuing this AD to address reading difficulties of flight-critical information displayed to the flightcrew during a critical phase of flight, such as an approach or takeoff, which could result in loss of airplane control at an altitude insufficient for recovery.

The European Aviation Safety Agency (EASA), which is the Technical Agent for the Member States of the European Union, has issued EASA AD 2018-0131, dated June 19, 2018 (referred to after this as the Mandatory Continuing Airworthiness Information, or “the MCAI”), to correct an unsafe condition for all Airbus SAS Model A318 and A319 series airplanes; Model A320-211, -212, -214, -216, -231, -232, and -233 airplanes; and Model A321-111, -112, -131, -211, -212, -213, -231, and -232 airplanes. The MCAI states:

During an unscheduled maintenance operation on an A330 aeroplane, the 10VU rack was removed for access and cracks were discovered on 10VU rack side fittings on lugs 1, 3 and 4. As a similar design is installed on A320 family aeroplanes, a sampling review was done to determine the possible fleet impact. The result showed that several aeroplanes had cracked or broken 10VU rack side fittings.

This condition, if not detected and corrected, could lead to a high vibration level on the primary flight and navigation displays during critical flight phases (take-off and landing), possibly creating reading difficulties for the crew.

Prompted by these findings, Airbus developed mod 35869 to reinforce the affected rack fitting lugs. For in-service aeroplanes, Airbus published SB [service bulletin] A320-92-1087 to provide detailed inspection (DET) and repair instructions. Consequently, EASA AD 2015-0170 [which corresponds to FAA AD 2016-19-14] was issued to require, for all pre mod 35869 aeroplanes, repetitive DET of the affected 10VU rack fitting lugs and, depending on findings, accomplishment of a repair.

Since that [EASA] AD was issued, analysis confirmed the need to extend the inspection to post mod 35869 aeroplanes. Airbus issued SB A320-92-1119 providing instructions for DET and repair of those aeroplanes accordingly. Airbus developed mod 157335 to further reinforce and adjust the affected rack fitting lugs. Analysis is still ongoing to confirm mod 157335 as terminating action for the requirements of this [EASA] AD, and further AD action may follow.

For the reason described above, this [EASA] AD retains the requirements of EASA AD 2015-0170, which is superseded, expanding the Applicability to include post mod 35869 aeroplanes, and requiring, for all aeroplanes, repetitive DET of the affected 10VU rack fitting lugs and, depending on findings, accomplishment of a repair [and reporting positive and negative findings to Airbus].

You may examine the MCAI in the AD docket on the internet at http://www.regulations.gov by searching for and locating Docket No. FAA-2018-0903.

Comments

We gave the public the opportunity to participate in developing this final rule. The following presents the comments received on the NPRM and the FAA's response to each comment.

Request To Allow Flight With Cracked 10VU Lug

JetBlue Airways requested that paragraph (i) of the proposed AD be revised to allow flight with one cracked 10VU lug and to require repair of that cracked 10VU lug prior to exceeding 5,000 flight cycles, 10,000 flight hours, or within 24 months after the effective date of the AD, whichever occurred first. The commenter noted that paragraph (i) of the proposed AD would require repair before further flight even if only one 10VU lug was cracked. The commenter stated that allowing flight with one cracked 10VU lug would be in line with the requirements of EASA AD 2018-0131, dated June 19, 2018, and the procedures described in Airbus Service Bulletin A320-92-1087, Revision 03, dated July 31, 2017; and Airbus Service Bulletin A320-92-1119, dated July 28, 2017. The commenter noted that if more than one 10VU lug was cracked then the repair of all cracked 10VU lugs must be done before further flight.

We disagree with the commenter's request. As noted in the proposed AD, we have determined that, because of the safety implications and consequences associated with that cracking, any cracked 10VU rack fitting lug must be repaired before further flight. Our general policy does not allow flight with known cracks. This policy is based on the fact that such damaged airplanes do not conform to the FAA-certificated type design and, therefore, are not airworthy until a properly approved repair is made. However, under the provisions of paragraph (m)(1) of this AD, we will consider requests for approval of an extension of the compliance time if sufficient data are submitted to substantiate that the new compliance time would provide an acceptable level of safety, We have not changed this AD regarding this issue.

Request To Clarify Testing Procedure Requirements

United Airlines (UAL) requested that the final AD include a statement that the tests identified as “Required for Compliance” (RC) in Airbus Service Bulletin A320-92-1087, Revision 03, dated July 31, 2017 (“A320-92-1087, Revision 03”); and Airbus Service Bulletin A320-92-1119, dated July 28, 2017 (“A320-92-1119”), are only applicable if the component identified in the test was removed and re-installed in the airplane. The commenter suggested that the final AD allow operators to conduct tests only on components that were removed so operators could get access to the areas required to do the inspections.

The commenter noted that Airbus Service Bulletin A320-92-1087, Revision 03, subtask 921087-700-002-001, “Testing,” provides a list of components to be tested, but includes a statement that the required testing is dependent upon which components were removed for access to do an inspection and then re-installed on the airplane. The commenter stated that Airbus Service Bulletin A320-92-1119 does not include such a statement. The commenter explained that having this statement is important because not every component listed is installed on every 10VU rack, therefore operators could not do a test on a component that was never installed, and including this statement would account for different avionics equipment configurations within the 10VU rack. The commenter provided the example that some UAL airplanes are not equipped with angle-of-attack indicators or an integrated stand instrument system, therefore the required tests could not be accomplished for these components.

We agree with the intent of the commenter's request and we will provide clarification regarding the RC tests. The intent of the RC tests in the Airbus service information is to require testing of equipment that was removed for access to do an inspection and then re-installed in the airplane. The Airbus service information includes this explanation regarding required testing in different locations. Airbus Service Bulletin A320-92-1087, Revision 03, paragraph 3.D.(2), “Subtask 921087-700-002-001, Testing,” includes a statement that the testing is dependent upon which components were removed in order to do an inspection and are being re-installed on the airplane. The location of this statement in Airbus Service Bulletin A320-92-1119, paragraph 3.D.(2), “Subtask 921119-710-001-001, Testing,” is in a note, which states that “The test procedure is to be accomplished after the installation of the equipment removed for access . . . .” This note has the same intent as the statement and operators are not expected to do testing on components that were never installed in the 10VU rack; operators only have to test components that were removed and then re-installed. We have not changed this AD regarding this issue.

Request To Refer to Current Service Information

UAL requested that, prior to publication of the final AD, we verify that the current published revision level of Airbus Service Bulletin A320-92-1087 and Airbus Service Bulletin A320-92-1119 are referred to in the final AD. The comment stated that this would avoid the need to apply for an alternative method of compliance (AMOC) immediately after publication of the final AD.

We agree with the commenter's request and we have verified that Airbus Service Bulletin A320-92-1087, Revision 03; and Airbus Service Bulletin A320-92-1119; are the current published revision levels of these documents. We have not changed this AD regarding this issue.

Request To Revise Reporting Method

JetBlue Airways requested that paragraph (j) of the proposed AD be revised to remove the reference to the Airbus Service Bulletin Reporting Online Application on Airbus World (https://w3.airbus.com/). The commenter advocated that operators should be allowed to report their findings to Airbus using a method of their choosing and that the proposed AD should not specify how operators should report their findings.

We agree to clarify. Paragraph (j) of this AD does not require operators to report their findings using only the Airbus Service Bulletin Reporting Online Application. Paragraph (j) of this AD provides operators with the option of either using the Airbus Service Bulletin Reporting Online Application or submitting the results to Airbus in accordance with the instructions of Airbus Service Bulletin A320-92-1087, Revision 03 (for Group 1 airplanes); or Airbus Service Bulletin A320-92-1119 (for Group 2 airplanes); as applicable. We have not changed this AD regarding this issue.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus has issued Service Bulletins A320-92-1087, Revision 03, dated July 31, 2017; and A320-92-1119, dated July 28, 2017. This service information describes procedures for repetitive inspections for cracking of the 10VU rack fitting lugs, and repair of any cracking. These documents are distinct since they apply to airplanes in different configurations.

This service information is reasonably available because the interested parties have access to it through their normal course of business or by the means identified in the ADDRESSES section.

Costs of Compliance

We estimate that this AD affects 461 airplanes of U.S. registry. We estimate the following costs to comply with this AD:

Estimated Costs
Labor cost | Parts cost | Cost per product | Cost on U.S. operators
2 work-hours × $85 per hour = $170 | $0 | $170 | $78,370

We estimate that it would take about 1 work-hour per product to comply with the reporting requirement in this AD. The average labor rate is $85 per hour. Based on these figures, we estimate the cost of reporting the inspection results on U.S. operators to be $85 per product.

We estimate the following costs to do any necessary repairs that would be required based on the results of the inspection. We have no way of determining the number of aircraft that might need these repairs:

Estimated Costs of On-Condition Actions
Labor cost | Parts cost | Cost per product
83 work-hours × $85 per hour = $7,055 | $9,140 | $16,195

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-19-14, Amendment 39-18663 (81 FR 71602, October 18, 2016), and adding the following new AD:

2019-07-05 Airbus SAS: Amendment 39-19616; Docket No. FAA-2018-0903; Product Identifier 2018-NM-113-AD.

(a) Effective Date

This AD is effective May 24, 2019.

(b) Affected ADs

This AD replaces AD 2016-19-14, Amendment 39-18663 (81 FR 71602, October 18, 2016) (“AD 2016-19-14”).

(c) Applicability

This AD applies to the Airbus SAS airplanes identified in paragraphs (c)(1) through (c)(4) of this AD, certificated in any category, all manufacturer serial numbers.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 92, Electric and Electronic Common Installation.

(e) Reason

This AD was prompted by a report of cracks found during maintenance inspections on certain 10VU rack fitting lugs. We are issuing this AD to address reading difficulties of flight-critical information displayed to the flightcrew during a critical phase of flight, such as an approach or takeoff, which could result in loss of airplane control at an altitude insufficient for recovery.

(f) Compliance

Comply with this AD within the compliance times specified, unless already done.

(g) Definitions

For the purpose of this AD, Group 1 airplanes are in a pre-Airbus Modification 35869 configuration, and Group 2 airplanes are in a post-Airbus Modification 35869 configuration.

(h) Repetitive Inspections

(1) For Group 1 airplanes: At the later of the times specified in table 1 to paragraph (h)(1) of this AD, and thereafter at intervals not to exceed 20,000 flight cycles or 40,000 flight hours, whichever occurs first, do a detailed inspection for cracking of the 10VU rack fitting lugs, in accordance with the Accomplishment Instructions of Airbus Service Bulletin A320-92-1087, Revision 03, dated July 31, 2017.

(2) For Group 2 airplanes: At the later of the times specified in paragraphs (h)(2)(i) and (h)(2)(ii) of this AD, and thereafter at intervals not to exceed 20,000 flight cycles or 40,000 flight hours, whichever occurs first, do a detailed inspection for cracking of the 10VU rack fitting lugs, in accordance with the Accomplishment Instructions of Airbus Service Bulletin A320-92-1119, dated July 28, 2017.

(i) Prior to exceeding 30,000 total flight cycles or 60,000 total flight hours, whichever occurs first.

(ii) Within 30 days after the effective date of this AD.

(i) Repair

If any crack is found during any inspection required by paragraph (h)(1) or (h)(2) of this AD: Before further flight, do a repair in accordance with the Accomplishment Instructions of Airbus Service Bulletin A320-92-1087, Revision 03, dated July 31, 2017 (for Group 1 airplanes); or Service Bulletin A320-92-1119, dated July 28, 2017 (for Group 2 airplanes); as applicable. Repair of a 10VU rack fitting lug does not terminate the repetitive inspections required by paragraphs (h)(1) and (h)(2) of this AD.

(j) Reporting

At the applicable time specified in paragraph (j)(1) or (j)(2) of this AD: Submit a report of findings (positive and negative) of each inspection required by paragraph (h) of this AD to Airbus Service Bulletin Reporting Online Application on Airbus World (https://w3.airbus.com/), or submit the results to Airbus in accordance with the instructions of Airbus Service Bulletin A320-92-1087, Revision 03, dated July 31, 2017 (for Group 1 airplanes); or Service Bulletin A320-92-1119, dated July 28, 2017 (for Group 2 airplanes); as applicable. Where Figure A-FAAAA, Sheet 02, of Appendix 01, “Inspection Report,” of Airbus Service Bulletin A320-92-1087, Revision 03, dated July 31, 2017; and Figure A-FAAAA, Sheet 02, of Appendix 01, “Inspection Report,” of Service Bulletin A320-92-1119, dated July 28, 2017; specifies sending removed lugs to Airbus for investigation, this AD does not include that requirement.

(1) If the inspection was done on or after the effective date of this AD: Submit the report within 90 days after the inspection.

(2) If the inspection was done before the effective date of this AD: Submit the report within 90 days after the effective date of this AD.

(k) Credit for Previous Actions

This paragraph provides credit for actions required by paragraphs (h)(1) and (i) of this AD if those actions were performed before the effective date of this AD using Airbus Service Bulletin A320-92-1087, Revision 02, dated November 25, 2014.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA AD 2018-0131, dated June 19, 2018, for related information. This MCAI may be found in the AD docket on the internet at http://www.regulations.gov by searching for and locating Docket No. FAA-2018-0903.

(2) For more information about this AD, contact Sanjay Ralhan, Aerospace Engineer, International Section, Transport Standards Branch, FAA, 2200 South 216th St., Des Moines, WA 98198; telephone and fax 206-231-3223.

(3) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-92-1087, Revision 03, dated July 31, 2017.

(ii) Airbus Service Bulletin A320-92-1119, dated July 28, 2017.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on April 9, 2019.
Michael Kaszycki,
Acting Director, System Oversight Division, Aircraft Certification Service.

[FR Doc. 2019-07940 Filed 4-18-19; 8:45 am]

BILLING CODE 4910-13-P